DEPARTMENT OF HOMELAND SECURITY

Coast Guard

33 CFR Part 165

[Docket No. USCG-2007-29153]

RIN 1625-AA87

Security Zone; Hawaii Superferry Arrival/Departure, Nawiliwili Harbor, Kauai, HI

AGENCY: Coast Guard, DHS.

ACTION: Temporary final rule; correction.

SUMMARY: This document corrects the spelling of a shipping facility and vessel and corrects the point of contact in a temporary final rule entitled “Security Zone; Hawaii Super Ferry Arrival/Departure, Nawiliwili Harbor, Kauai, Hawaii” that was published September 5, 2007, in the Federal Register.

DATES: These corrections are effective September 13, 2007.

FOR FURTHER INFORMATION CONTACT: Lieutenant (Junior Grade) Jasmin Parker, U.S. Coast Guard Sector Honolulu at 808-842-2673.

SUPPLEMENTARY INFORMATION: On September 5, 2007, the Coast Guard published a temporary final rule entitled “Security Zone; Hawaii Super Ferry Arrival/Departure, Nawiliwili Harbor, Kauai, Hawaii” in the Federal Register (72 FR 50877). In that document the name of a shipping facility is misspelled, the term “superferry” is presented as two words rather than one, and the name of the person to contact about further information on the rule is incorrect. The correct spelling of the shipping facility is “Matson” and the name and phone number of the person to contact for further information is Lieutenant (Junior Grade) Jasmin Parker, 808-842-2673.

Correction Instructions

In rule FR Doc. 07-4357 published on September 5, 2007, (72 FR 50877) make the following corrections:

1. On page 50877, in the first column, in lines 7, 24, 29 and 30, remove “Super Ferry” and add, in its place, “Superferry”; in lines 60 and 61, remove the name “Laura Springer” and add, in its place, the name “Jasmin Parker”; and in line 62 remove the number “2600” and add, in its place, the number “2673”.

2. On page 50877, in the second column, in lines 7, 19, 48, and 49, remove “Super Ferry” and add, in its place, “Superferry”; in line 61, remove “Madsen” and add, in its place, “Matson”.

3. On page 50877, in the third column, in lines 14, 26, 40, 49, 63, 65, and 66, remove “Super Ferry” and add, in its place, “Superferry”.

4. On page 50878, in the second column, in line 14, remove the name “Laura Springer” and add, in its place, the name “Jasmin Parker”; and in line 16, remove the number “2600” and add, in its place, “2673”.

§ 165.T14-160 [Corrected]

5. On page 50879, in the second column, in § 165.T14-160, in paragraph (b), in the fourth, sixth and seventh lines, and in paragraph (c)(3), in the eleventh line, remove “Super Ferry” and add, in its place, “Superferry”.

Dated: September 7, 2007.
Stefan G. Venckus,
Chief, Office of Regulations and Administrative Law, United States Coast Guard.

[FR Doc. E7-18024 Filed 9-12-07; 8:45 am]

BILLING CODE 4910-15-P